DEPARTMENT OF THE INTERIOR

Fish and Wildlife Service

50 CFR Part 32

[Docket No. FWS-R9-NSR-2009-0023]

[93270-1265-0000-4A]

[RIN 1018-AW49]

2009-2010 Refuge-Specific Hunting and Sport Fishing Regulations—Additions

AGENCY: Fish and Wildlife Service, Interior.

ACTION: Proposed rule.

SUMMARY: The Fish and Wildlife Service proposes to add two refuges to the list of areas open for hunting and/or sport fishing programs and increase the activities available at eight other refuges for the 2009-2010 season. One refuge will see a decrease in activities and another refuge will see no net change in activities for the 2009-2010 season.

DATES: We will accept comments received or postmarked on or before January 28, 2010.

ADDRESSES: You may submit comments by one of the following methods:

• Federal eRulemaking Portal : http://www.regulations.gov . Follow the instructions for submitting comments to Docket No. FWS-R9-NSR-2009-0023.

• U.S. mail or hand delivery: Public Comments Processing, Attn: RIN 1018-AW49; Division of Policy and Directives Management; U.S. Fish and Wildlife Service; 4401 N. Fairfax Drive, Suite 222; Arlington, VA 22203.

We will not accept e-mail or faxes. We will post all comments on http://www.regulations.gov. This generally means that we will post any personal information you provide us (see the Public Comments section below for more information). For information on specific refuges' public use programs and the conditions that apply to them or for copies of compatibility determinations for any refuge(s), contact individual programs at the addresses/phone numbers given in “Available Information for Specific Refuges” under SUPPLEMENTARY INFORMATION.

FOR FURTHER INFORMATION CONTACT: Leslie A. Marler, (703) 358-2397; Fax (703) 358-2248.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System or our/we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act, which built upon the Administration Act in a manner that provides an “organic act” for the Refuge System, are similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Amendments to Existing Regulations

This document proposes to codify in the Code of Federal Regulations all of the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We have cross-referenced a number of existing regulations in 50 CFR parts 26, 27, and 32 to assist hunting and sport fishing visitors with understanding safety and other legal requirements on refuges. This redundancy is deliberate, with the intention of improving safety and compliance in our hunting and sport fishing programs.

Table 1 - Changes for 2009-2010 Hunting/Fishing Season
National Wildlife Refuge | State | Migratory Bird Hunting | Upland Game Hunting | Big Game Hunting | Fishing
Hillside | MS | Previously published | Previously published | B (turkey) | Previously published
Holt Collier | MS | Closed | Previously published | C | Closed
Mathews Brake | MS | F | Previously published | Previously published | Previously published
Morgan Brake | MS | Previously published | Previously published | A/B (hog) | Previously published
Panther Swamp | MS | D | Previously published | E | Previously published
Yazoo | MS | C | Previously published | Previously published | Closed
Nisqually | WA | G | Closed | Closed | Previously published
Turnbull | WA | H | Closed | H (elk) | Closed
Waccamaw | SC | A | A | A | Previously published
Lake Andes | SD | H | H | H | Closed
Red River | LA | A | A | A/B (hog, turkey) | Previously published
San Luis | CA | A | Previously published | Closed | Previously published
A. = Refuge already open to activity but added new land which increased activity
B. = Refuge already open to activity but added new species to hunt
C. = Refuge already opened to activity but expanded the activity through increased type of hunt (e.g., youth waterfowl)/different weaponry now allowed
D. = Refuge already opened to activity, added new land but adjusted hunt days, so no net increase
E. = No increase in hunt days; rather a redistribution of hunt area/days to make for safer, quality hunt
F. = Decrease in hunter days due to limiting of weekend waterfowl hunters
G. = New activity on a refuge previously opened to other activities
H. = New refuge opened, new activity

In the State of Mississippi, we revised the public hunting plan and propose the following changes for the Theodore Roosevelt National Wildlife Refuge Complex (comprising of six refuges: Hillside, Holt Collier, Mathews Brake, Morgan Brake, Panther Swamp, and Yazoo NWRs):

• Revision of the hunt plan for Holt Collier NWR (which is currently covered by the Yazoo NWR hunt plan) reflecting different weaponry and changing 14 days of the hunt from archery to archery/muzzleloader for big game hunting;

• For Panther Swamp NWR: addition of deer hunting using muzzleloaders and modern weapons and waterfowl hunting on 2,900 acres of the Carter Unit; on the recently acquired 761-acre tract, expansion of deer and feral hog hunting (with no corresponding increase in hunters); and a redistribution/reduction of waterfowl hunting areas/hunt days throughout the refuge, including the Carter Unit and recently acquired 761-acre tract;

• Addition of turkey hunting on Hillside NWR;

• Addition of youth waterfowl hunting allowed on Yazoo NWR;

• Limited weekend waterfowl hunt participation at Mathews Brake NWR, decreasing the number of hunters; and

• Increase in deer/feral hog hunting on 366 acres at Morgan Brake NWR.

On Waccamaw NWR in South Carolina we added six new refuge parcels and propose to increase all allowable hunting activities on 1,905 acres and feral hog hunting on 1,200 acres. On Nisqually NWR in Washington we have added 191 acres of tidal flats that we propose to open to migratory bird hunting. On Red River NWR in Louisiana we have added approximately 6,000 acres of land that we propose to open to all three hunting activities, and we propose to add feral hog and turkey hunting. On San Luis NWR in California we have added approximately 2,000 acres of land (East Bear Creek Unit) that we propose to open for migratory game bird hunting.

Fish Advisory

For health reasons, anglers should review and follow State-issued consumption advisories before enjoying recreational sport fishing opportunities on Service-managed waters. You can find information about current fish consumption advisories on the internet at: http://www.epa.gov/ost/fish/.

Plain Language Mandate

In this proposed rule we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Request for Comments

You may submit comments and materials on this proposed rule by any one of the methods listed in the ADDRESSES section. We will not accept comments sent by e-mail or fax or to an address not listed in the ADDRESSES section. We will not accept anonymous comments; your comment must include your first and last name, city, State, country, and postal (zip) code. Finally, we will not consider hand-delivered comments that we do not receive, or mailed comments that are not postmarked, by the date specified in the DATES section.

We will post your entire comment on http://www.regulations.gov. Before including your address, phone number, e-mail address, or other personal identifying information in your comment, you should be aware that your entire comment - including your personal identifying information - may be made publicly available at any time. While you can ask us in your comment to withhold your personal identifying information from public review, we cannot guarantee that we will be able to do so. We will post all hardcopy comments on http://www.regulations.gov.

Public Comment

Department of the Interior policy is, whenever practicable, to afford the public a meaningful opportunity to participate in the rulemaking process. The process of opening refuges is done in stages, with the fundamental work being performed on the ground at the refuge and in the community where the program is administered. In these stages, the public is given other opportunities to comment, for example, on the comprehensive conservation plans and the compatibility determinations. The second stage is this document, when we publish the proposed rule in the Federal Register for additional comment, commonly for a 30-day comment period.

There is nothing contained in this annual regulation outside the scope of the annual review process where we determine whether individual refuges need modifications, deletions, or additions made to them. We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in recreational activities on a number of refuges. In addition, in order to continue to provide for previously authorized hunting opportunities while at the same time providing for adequate resource protection, we must be timely in providing modifications to certain hunting programs on some refuges.

We considered providing a 60-day, rather than a 30-day, comment period. However, we determined that an additional 30-day delay in processing these refuge-specific hunting and sport fishing regulations would hinder the effective planning and administration of our hunting and sport fishing programs. Such a delay would jeopardize enacting amendments to hunting and sport fishing programs in time for implementation this year and/or early next year, or shorten the duration of these programs.

Even after issuance of a final rule, we accept comments, suggestions, and concerns for consideration for any appropriate subsequent rulemaking.

When finalized, we will incorporate these regulations into 50 CFR part 32. Part 32 contains general provisions and refuge-specific regulations for hunting and sport fishing on refuges.

Clarity of This Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be a specific as possible. For example, you should tell us the numbers of the sections or paragraphs that are unclearly written, which sections or sentences are too long, the sections where you feel lists or tables would be useful, etc.

Regulatory Planning and Review

The Office of Management and Budget (OMB) has determined that this rule is not significant under Executive Order 12866 (E.O. 12866). OMB bases its determination on the following four criteria:

(a) Whether the rule will have an annual effect of $100 million or more on the economy or adversely affect an economic sector, productivity, jobs, the environment, or other units of the government.

(b) Whether the rule will create inconsistencies with other Federal agencies' actions.

(c) Whether the rule will materially affect entitlements, grants, use fees, loan programs, or the rights and obligations of their recipients.

(d) Whether the rule raises novel legal or policy issues.

Regulatory Flexibility Act

Under the Regulatory Flexibility Act (as amended by the Small Business Regulatory Enforcement Fairness Act [SBREFA] of 1996) (5 U.S.C. 601, et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for ‘‘significant impact'' and a threshold for a ‘‘substantial number of small entities.'' See 5 U.S.C. 605(b). SBREFA amended the Regulatory Flexibility Act to require Federal agencies to provide a statement of the factual basis for certifying that a rule would not have a significant economic impact on a substantial number of small entities.

This proposed rule adds two national wildlife refuges to the list of refuges open to hunting, increases hunting activities on eight national wildlife refuges, decreases activities at one national wildlife refuge and has a net change of zero at one national wildlife refuge. As a result, visitor use for wildlife-dependent recreation on these national wildlife refuges will change. If the refuges establishing new hunting programs were a pure addition to the current supply of such activities, it would mean an estimated increase of 3,675 user days of hunting (Table 2). Because the participation trend is flat in hunting activities since 1991, this increase in supply will most likely be offset by other sites losing participants. Therefore, this is likely to be a substitute site for the activity and not necessarily an increase in participation rates for the activity.

Table 2. Estimated Change in Hunting Opportunities in 2009/2010
Refuge | Additional Hunting Days | Additional Hunting Expenditures
Hillside | 90 | $9,635
Holt Collier | 150 | $16,059
Mathews Brake | -200 | ($21,412)
Morgan Brake | 25 | $2,677
Panther Swamp | 0 | 0
Yazoo | 100 | $10,706
Nisqually | 700 | $74,942
Turnbull | 95 | $10,171
Waccamaw | 75 | $8,030
Lake Andes | 180 | $19,271
Red River | 1,600 | $171,297
San Luis | 860 | $92,072
Total | 3,675 | $393,448

To the extent visitors spend time and money in the area of the refuge that they would not have spent there anyway, they contribute new income to the regional economy and benefit local businesses. Due to the unavailability of site-specific expenditure data, we use the national estimates from the 2006 National Survey of Fishing, Hunting, and Wildlife Associated Recreation to identify expenditures for food and lodging, transportation, and other incidental expenses. Using the average expenditures for these categories with the maximum expected additional participation of the Refuge System yields approximately $393,000 in hunting-related expenditures (Table 2). By having ripple effects throughout the economy, these direct expenditures are only part of the economic impact of waterfowl hunting. Using a national impact multiplier for hunting activities (2.67) derived from the report “Economic Importance of Hunting in America” yields a total economic impact of approximately $1.1 million (2008 dollars) (Southwick Associates, Inc., 2007). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $1.1 million, and most likely considerably less. Since 80 percent of the participants travel less than 100 miles to engage in hunting and fishing activities, their spending patterns would not add new money into the local economy and, therefore, the real impact would be on the order of $210,000 annually.

Small businesses within the retail trade industry (such as hotels, gas stations, taxidermy shops, bait and tackle shops, etc.) may be impacted from some increased or decreased refuge visitation. A large percentage of these retail trade establishments in the local communities around national wildlife refuges qualify as small businesses (Table 3). We expect that the incremental recreational changes will be scattered, and so we do not expect that the rule will have a significant economic effect on a substantial number of small entities in any region or nationally. As noted previously, we expect approximately $210,000 to be spent in total in the refuges' local economies. The maximum increase ($1.1 million if all spending were new money) at most would be less than 1 percent for local retail trade spending.

Table 3. Comparative Expenditures for Retail Trade Associated with Additional Refuge Visitation for 2009/2010 (thousands, 2008 dollars)
Refuge/County(ies) | Retail Trade in 2002 (2008 $ ) | Estimated Maximum Addition from New Activities | Addition as % of Total | Establishments in 2007 | Establ. With < 10 emp in 2007
Hillside
Holmes, MS | $112,887.5 | $4.5 | 0.004% | 79 | 56
Holt Collier |  |  |  |  |
Washington MS | $723,963.8 | $7.5 | 0.001% | 281 | 201
Mathews Brake |  |  |  |  |
Leflore, MS | $364,678.3 | -$10.0 | -0.003% | 183 | 136
Morgan Brake |  |  |  |  |
Holmes, MS | $112,887.5 | $1.3 | 0.001% | 79 | 56
Panther Swamp |  |  |  |  |
Yazoo, MS | $229,806.9 | $0.0 | 0% | 91 | 66
Yazoo |  |  |  |  |
Washington, MS | $723,963.8 | $5.0 | 0.001% | 281 | 201
Nisqually |  |  |  |  |
Thurston, WA | $2,676,041.6 | $35.2 | 0.001% | 794 | 535
Turnbull |  |  |  |  |
Spokane, WA | $5,825,795.2 | $4.8 | 0% | 1,698 | 1,105
Waccamaw |  |  |  |  |
Horry, SC | $3,858,832.9 | $1.3 | 0% | 1,681 | 1,239
Georgetown, SC | $669,980.1 | $1.3 | 0% | 371 | 275
Marion, SC | $286,986.1 | $1.3 | 0% | 151 | 112
Lake Andes |  |  |  |  |
Charles Mix, SD | $76,157.9 | $9.0 | 0.012% | 61 | 45
Red River |  |  |  |  |
Natchitoches Parish, LA | $375,577.5 | $80.4 | 0.021% | 149 | 101
San Luis |  |  |  |  |
Merced, CA | $1,917,683.1 | $43.2 | 0.002% | 582 | 395

With the small change in overall spending anticipated from this proposed rule, it is unlikely that a substantial number of small entities will have more than a small impact from the spending change near the affected refuges. Therefore, we certify that this proposed rule will not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act

The proposed rule is not a major rule under 5 U.S.C. 804(2), the Small Business Regulatory Enforcement Fairness Act. We anticipate no significant employment or small business effects. This rule:

a. Would not have an annual effect on the economy of $100 million or more. The minimal impact would be scattered across the country and would most likely not be significant in any local area.

b. Would not cause a major increase in costs or prices for consumers, individual industries, Federal, State, or local government agencies, or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States and, therefore, it should not affect prices for hunting equipment and supplies, or the retailers that sell equipment.

c. Would not have significant adverse effects on competition, employment, investment, productivity, innovation, or the ability of United States-based enterprises to compete with foreign-based enterprises. This proposed rule represents only a small proportion of recreational spending at national wildlife refuges. Therefore, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This regulation would affect only visitors at national wildlife refuges and describe what they can do while they are on a refuge.

Federalism (E.O. 13132)

As discussed in the Regulatory Planning and Review and Unfunded Mandates Reform Act sections above, this proposed rule would not have sufficient Federalism implications to warrant the preparation of a Federalism Assessment under E.O. 13132. In preparing this proposed rule, we worked with State governments.

Civil Justice Reform (E.O. 12988)

In accordance with E.O. 12988, the Office of the Solicitor has determined that the proposed rule would not unduly burden the judicial system and that it meets the requirements of sections 3(a) and 3(b)(2) of the Order. The regulation would clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this proposed rule would increase activities at eight refuges and open two new refuges, it is not a significant regulatory action under E.O. 12866 and is not expected to significantly affect energy supplies, distribution, and use. Therefore, this action is a not a significant energy action and no Statement of Energy Effects is required.

Consultation and Coordination with Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget under the Paperwork Reduction Act (44 U.S.C. 3501 et seq.) (OMB Control Number is 1018-0102 and 1018-0140). See 50 CFR 25.23 for information concerning that approval. An agency may not conduct or sponsor and a person is not required to respond to a collection of information unless it displays a currently valid OMB control number.

Endangered Species Act Section 7 Consultation

We comply with Section 7 of the ESA when developing Comprehensive Conservation Plans (CCPs) and step-down management plans (which would include hunting and/or fishing plans) for public use of refuges, and prior to implementing any new or revised public recreation program on a refuge as identified in 50 CFR 26.32. Section 7 consultation has been completed on each of the affected refuges.

National Environmental Policy Act

We analyzed this proposed rule in accordance with the criteria of the National Environmental Policy Act of 1969 (NEPA) (42 U.S.C. 4332(C)) and 516 Departmental Manual (DM) 6, Appendix 1.

A categorical exclusion from NEPA documentation applies to publication of proposed amendments to refuge-specific hunting and fishing regulations since it is technical and procedural in nature, and the environmental effects are too broad, speculative, or conjectural to lend themselves to meaningful analysis (516 DM 2, Appendix 1.10). Concerning the actions that are the subject of this proposed rulemaking, NEPA has been complied with at the project level where each proposal was developed. This is consistent with the Department of the Interior instructions for compliance with NEPA where actions are covered sufficiently by an earlier environmental document (516 DM 3.2A). An Environmental Assessment, along with a Finding of No Significant Impact, was completed for each refuge in this proposed rulemaking except for Nisqually NWR. For Nisqually, we completed a Categorical Exclusion, along with an Environmental Action Statement. The proposed action in Nisqually is to open 191 acres already open to hunting to allow boat access for hunting; the impact from this proposed action was previously analyzed in Nisqually NWR's Final CCP and EIS from 2004.

Prior to the addition of a refuge to the list of areas open to hunting and fishing in 50 CFR part 32, we develop hunting and fishing plans for the affected refuges. We incorporate these proposed refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters retain information regarding public use programs and conditions that apply to their specific programs and maps of their respective areas. If the specific refuge you are interested in is not mentioned below, then contact the appropriate Regional offices listed below:

Region 1—Hawaii, Idaho, Oregon, and Washington. Regional Chief, National Wildlife Refuge System, U.S. Fish and Wildlife Service, Eastside Federal Complex, Suite 1692, 911 N.E. 11th Avenue, Portland, Oregon 97232-4181; Telephone (503) 231-6214.

Turnbull National Wildlife Refuge, 26010 South Smith Road, Cheney, Washington, 99004, (509) 235-4723.

Region 2—Arizona, New Mexico, Oklahoma, and Texas. Regional Chief, National Wildlife Refuge System, U.S. Fish and Wildlife Service, Box 1306, 500 Gold Avenue, Albuquerque, New Mexico 87103; Telephone (505) 248-7419.

Region 3—Illinois, Indiana, Iowa, Michigan, Minnesota, Missouri, Ohio, and Wisconsin. Regional Chief, National Wildlife Refuge System, U.S. Fish and Wildlife Service, 1 Federal Drive, Federal Building, Fort Snelling, Twin Cities, Minnesota 55111; Telephone (612) 713-5401.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, Georgia 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Lake Andes National Wildlife Refuge, 38672 291 Street, Lake Andes, SD 57356, (605) 487-7603.

Region 7—Alaska. Regional Chief, National Wildlife Refuge System, U.S. Fish and Wildlife Service, 1011 E. Tudor Rd., Anchorage, Alaska 99503; Telephone (907) 786-3545.

Region 8—California and Nevada. Regional Chief, National Wildlife Refuge System, U.S. Fish and Wildlife Service, 2800 Cottage Way, Room W-2606, Sacramento, California 95825; Telephone (916) 414-6464.

Primary Author

Leslie A. Marler, Management Analyst, Division of Conservation Planning and Policy, National Wildlife Refuge System is the primary author of this rulemaking document.

List of Subjects in 50 CFR Part 32

Fishing, Hunting, Reporting and recordkeeping requirements, Wildlife, Wildlife refuges.

For the reasons set forth in the preamble, we propose to amend title 50, chapter I, subchapter C of the Code of Federal Regulations as follows:

PART 32-[AMENDED]

1. The authority citation for part 32 continues to read as follows:

Authority: 5 U.S.C. 301; 16 U.S.C. 460k, 664, 668dd-668ee, and 715i.

2. Amend §32.7 by:

a. Adding Lake Andes National Wildlife Refuge, in alphabetical order, in the State of South Dakota; and

b. Adding Turnbull National Wildlife Refuge, in alphabetical order, in the State of Washington.

3. Amend §32.24 by revising paragraphs A.9. through A.12. and adding paragraph A.13. of San Luis National Wildlife Refuge to read as follows:

§32.24 California.

San Luis National Wildlife Refuge

A. Migratory Game Bird Hunting. * * *

9. We restrict hunters in the spaced zone area of the East Bear Creek Unit to their assigned zone except when they are traveling to and from the parking area, retrieving downed birds, or when shooting to retrieve crippled birds.

10. Access to the Frietas Unit free-roam hunting area is by boat only with a maximum of 5 mph. Prohibited boats include air-thrust and/or inboard water-thrust types.

11. We prohibit the use of motorized boats in the free-roam units with the exception of the Frietas Unit.

12. We do not allow vehicle trailers of any type or size to be in the refuge hunt areas at any time or to be left unattended at any location on the refuge.

13. Dogs must remain under the immediate control of their owners at all times (see §26.21(b) of this chapter.

4. Amend §32.37 by revising paragraphs A., B., and C. of Red River National Wildlife Refuge to read as follows:

§32.37 Louisiana.

Red River National Wildlife Refuge

A. Migratory Game Bird Hunting. We allow hunting of waterfowl (duck, goose, coot, gallinule, rail, and snipe), woodcock, and dove on designated areas of the refuge in accordance with State regulations subject to the following conditions:

1. Hunters must possess and carry a signed refuge permit.

2. We allow waterfowl hunting until 12 p.m. (noon) during the State season.

3. We allow dove hunting on the days noted in the refuge brochure.

4. Hunters may enter the refuge no earlier than 4 a.m.

5. We prohibit hunting within 100 feet (30 m) of the maintained rights of way of roads, from or across ATV trails, and from above-ground oil, gas, or electrical transmission facilities.

6. We prohibit leaving boats, blinds, and decoys unattended.

7. We only allow dogs to locate, point, and retrieve when hunting for migratory game birds.

8. Youth hunters under age 16 must remain within sight and normal voice contact of an adult age 21 or older. Each adult may supervise no more than two youth hunters.

9. We prohibit any person or group to act as a hunting guide, outfitter, or in any other capacity that pay other individual(s), pays or promises to pay directly or indirectly for service rendered to any other person or persons hunting on the refuge, regardless of whether such payment is for guiding, outfitting, lodging, or club membership.

B. Small Game Hunting. We allow hunting of quail, squirrel, rabbit, raccoon, coyote, and opossum on designated areas of the refuge in accordance with State regulations subject to the following conditions:

1. Conditions A1, A4, A5, A7, and A8 (to hunt small game) apply.

2. We allow hunting of raccoon and opossum during the daylight hours of rabbit and squirrel season. We allow night hunting during December and January. We prohibit the selling of raccoon and opossum taken on the refuge for human consumption.

3. We allow the use of dogs to hunt squirrel and rabbit during January and February.

4. To use horses and mules to hunt raccoon and opossum at night, hunters must first obtain a Special Use Permit at the refuge office.

5. Hunters may enter the refuge no earlier than 4 a.m. and must exit no later than 2 hours after legal shooting hours.

6. We allow coyote hunting during all open refuge hunts with weapons legal for the ongoing hunt.

C. Big Game Hunting. We allow hunting of white-tailed deer, feral hogs, and turkey on designated areas of the refuge in accordance with State regulations subject to the following conditions:

1. Conditions A1, A4, A5, A7, and A8 (to hunt big game) and B6 apply.

2. We allow general gun deer hunting on the days noted. We allow archery deer hunting during the entire State season.

3. The daily bag limit is one either-sex deer. State season limit applies.

4. Deer hunters must wear hunter orange as per State deer hunting regulations on Wildlife Management Areas.

5. Each youth hunter under age 16 must remain within sight and normal voice contact of an adult age 21 or older. Each adult may supervise no more than one youth hunter.

6. We prohibit possession or distribution of bait while in the field and hunting with the aid of bait, including any grain, salt, mineral, or any nonnatural occurring food attractant on the refuge.

7. We allow hog hunting during all open refuge hunts with weapons legal for the ongoing hunt.

8. We allow turkey hunting on the days noted in the brochure.

5. Amend §32.43 by:

a. Revising Hillside National Wildlife Refuge;

b. Revising Holt Collier National Wildlife Refuge;

c. Revising Mathews Brake National Wildlife Refuge;

d. Revising Morgan Brake National Wildlife Refuge;

e. Revising Panther Swamp National Wildlife Refuge; and

f. Revising Yazoo National Wildlife Refuge to read as follows:

§32.43 Mississippi.

Hillside National Wildlife Refuge

A. Migratory Game Bird Hunting. We allow hunting of goose, duck, merganser, coot, and dove in accordance with State regulations subject to the following conditions:

1. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

2. Before hunting or fishing, all participants must display their User Information Card in plain view on the dashboard of their vehicle so that the Permit Number is readable.

3. Failure to display the User Information Card will result in the loss of the participant's annual refuge Public Use Permit.

4. We prohibit hunting or entry into areas designated as “CLOSED” (see refuge brochure map).

5. We prohibit possession of alcoholic beverages (see §32.2(j)).

6. We prohibit use of plastic flagging tape.

7. You must park vehicles in such a manner as not to obstruct roads, gates, turn rows, or firelanes (see §27.31(h) of this chapter).

8. We are open for hunting during the State season except during the muzzleloader deer hunt.

9. Valid permit holders may take the following furbearers in season incidental to other refuge hunts with legal weapons used for that hunt: raccoon, opossum, coyote, beaver, bobcat, and nutria.

10. We allow ATVs only on designated trails (see §27.31 of this chapter) (see refuge brochure map) from September 15 through February 28.

11. You may possess or use only approved nontoxic shot (see §32.2(k)) while in the field.

12. You may take migratory birds with shotguns shooting only approved nontoxic shot.

13. Hunters must remove all decoys, blind material (see §27.93 of this chapter), and harvested waterfowl from the area no later than 1 p.m. each day.

14. We allow goose, duck, merganser and coot hunting from ½ hour before legal sunrise until 12 p.m. (noon). We allow entry into the refuge at 4 a.m.

15. There is no early teal season.

16. We open for dove hunting the first and second State seasons. The first two Saturdays of the first season require a Limited Hunt Permit assigned by random computer drawing. At the end of the hunt you must return the permit with information concerning your hunt. If you fail to return this permit, you will not be eligible for any limited hunts the next year. Contact the refuge headquarters for specific dates and open areas.

B. Upland Game Hunting. We allow hunting of squirrel, rabbit, quail, and raccoon on designated areas of the refuge in accordance with State regulations subject to the following conditions:

1. Conditions A1 through A11 apply.

2. We allow shotguns with only approved nontoxic shot (see §32.2(k)), and .22 and .17 caliber rimfire rifles for taking small game.

3. We allow squirrel, rabbit, and quail hunting with dogs in February.

4. During the rabbit and quail hunts, any person hunting or accompanying another person hunting must wear at least 500 square inches (3,250 cm²) of unbroken, fluorescent-orange material visible above the waistline as an outer garment.

5. Beginning the first day after the deer muzzleloader hunt, we restrict entry into the Turkey Point area until March 1.

6. With exception for raccoon hunting, we limit refuge ingress and egress to the period of 4 a.m. to 1½ hours after legal sunset.

7. We prohibit horses and mules.

C. Big Game Hunting. We allow hunting of white-tailed deer and turkey on designated areas of the refuge in accordance with State regulations subject to the following conditions:

1. Conditions A1 through A11, and B5 through B7 apply.

2. During all gun and muzzleloader deer hunts: all participants must wear at least 500 square inches (3,250 cm²) of unbroken, fluorescent-orange material visible above the waistline as an outer garment while hunting and en route to and from hunting areas.

3. We prohibit organized drives for deer.

4. Hunting or shooting within or adjacent to open fields and tree plantations less than 5 feet (1.5 m) in height must be from a stand a minimum of 10 feet (3 m) above the ground.

5. We prohibit hunting or shooting into a 100-foot (30-m) zone along either side of pipelines, power line rights-of-way, designated roads, trails, or around parking lots (See refuge brochure map). You are considered hunting if you occupy a stand or blind or have an arrow nocked in a bow.

6. We designate deer check station dates, locations, and requirements in the refuge brochure.

7. We allow hunters to possess and hunt from only one stand or blind. Complex Headquarters will use a specific method to identify stands and blinds. We prohibit the use of climbing spikes or hunting from a tree in which metal objects have been screwed or driven (see §32.2(i)). Hunters may place a deer stand or blind 48 hours prior to a hunt and must remove it within 48 hours after each designated hunt. Hunters may place turkey blinds the day of the hunt and remove them after each day's hunt.

8. During designated muzzleloader hunts, we allow archery equipment and muzzleloaders loaded with a single ball.

9. Turkey hunting opportunities will consist of three limited draw hunts within the State season time frame. These hunts require a Limited Hunt Permit assigned by random computer drawing. At the end of the hunt you must return the permit with information concerning your hunt. If you fail to return this permit, you will not be eligible for any limited hunts the next year. Contact refuge headquarters for specific requirements, hunts, and application dates.

10. Hunts and hunt dates are available at the refuge headquarters in July, and we post them in the refuge brochure.

11. We prohibit all other public use on the refuge during all gun and muzzleloader deer hunts.

D. Sport Fishing. We allow fishing on designated areas of the refuge in accordance with State regulations subject to the following conditions:

1. We close all refuge waters during the gun and muzzleloader deer hunt.

2. We allow fishing in the borrow ponds along the north levee (see refuge brochure map) throughout the year except during the gun and muzzleloader deer hunt.

3. We open all other refuge waters March 1 through November 15.

4. We prohibit trot lines, limb lines, jugs, seines, and traps.

5. We prohibit fishing from bridges.

6. We allow frogging during the State bullfrog season.

7. We allow ATVs on designated trails (see §27.31 of this chapter) (see refuge brochure map) September 15 through February 28.

8. With the exception for frogging during the State season, we limit refuge ingress and egress for fishing to the period of 4 a.m. to 1½ hours after legal sunset.

Holt Collier National Wildlife Refuge

A. Migratory Game Bird Hunting. [Reserved]

B. Upland Game Hunting. We allow hunting of rabbit and furbearers on designated areas of the refuge in accordance with State regulations subject to the following conditions:

1. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

2. Before hunting or fishing, all participants must display their User Information Card in plain view on the dashboard of their vehicle so that the Permit Number is readable.

3. Failure to display the User Information Card will result in the loss of the participant's annual refuge Public Use Permit.

4. We prohibit hunting or entry into areas designated as “CLOSED” (see refuge brochure map).

5. We prohibit possession of alcoholic beverages (see §32.2(j)).

6. We prohibit use of plastic flagging tape.

7. You must park vehicles in such a manner as not to obstruct roads, gates, turn rows, or firelanes (see §27.31(h) of this chapter).

8. We are open for hunting during the State season except during the muzzleloader deer hunt.

9. Valid permit holders may take the following furbearers in season incidental to other refuge hunts with legal weapons used for that hunt: raccoon, opossum, coyote, beaver, bobcat, and nutria.

10. We allow shotguns with only approved nontoxic shot (see §32.2(k)), and .22 and .17 caliber rimfire rifles for taking small game.

11. We allow rabbit and quail hunting with dogs in February.

12. During the rabbit and quail hunts, any person hunting or accompanying another person hunting must wear at least 500 square inches (3,250 cm²) of unbroken, fluorescent-orange material visible above the waistline as an outer garment.

13. With exception for raccoon hunting, we limit refuge ingress and egress to the period of 4 a.m. to 1½ hours after legal sunset.

14. We prohibit horses and mules.

C. Big Game Hunting. We allow hunting of white-tailed deer on designated areas of the refuge in accordance with State regulations subject to the following conditions:

1. Conditions B1 through B7, B9, and B10 apply.

2. During the muzzleloader deer hunt all participants must wear at least 500 square inches (3,250 cm²) of unbroken, fluorescent-orange material visible above the waistline as an outer garment while hunting and en route to and from hunting areas.

3. We prohibit organized drives for deer.

4. Hunting or shooting within or adjacent to open fields and or tree plantations less than 5 feet (1.5 m) in height must be from a stand a minimum of 10 feet (3 m) above the ground.

5. We prohibit hunting or shooting into a 100-foot (30-m) zone along either side of pipelines, power line rights-of-way, designated roads, trails, or around parking lots (see refuge brochure map). We consider it hunting if you occupy a stand or blind or have an arrow nocked in a bow.

6. We designate deer check station dates, locations, and requirements in the refuge brochure.

7. We allow hunters to possess and hunt from only one stand or blind. Complex Headquarters will use a specific method to identify stands and blinds. We prohibit the use of climbing spikes or hunting from a tree into which hunters have screwed or driven metal objects (see §32.2(i)). Hunters must place a deer stand or blind 48 hours prior to a hunt and must remove it within 48 hours after each designated hunt.

8. During designated muzzleloader hunts, we allow archery equipment and muzzleloaders loaded with a single ball.

9. Hunts and hunt dates are available at the refuge headquarters in July, and we post them in the refuge brochure.

10. We prohibit all other public use on the refuge during muzzleloader deer hunts.

D. Sport Fishing. [Reserved]

Mathews Brake National Wildlife Refuge

A. Migratory Game Bird Hunting. We allow hunting of goose, duck, merganser, and coot in accordance with State regulations subject to the following conditions:

1. We allow hunting during the open State season. The first 2 days of the season and all weekends, with the exception of youth weekends, are limited draw hunts. These hunts require a Limited Hunt Permit assigned by random computer drawing. At the end of the hunt you must return the permit with information concerning your hunt. If you fail to return this permit, you will not be eligible for any limited hunts the next year. Contact refuge headquarters for specific requirements, hunts, and application dates.

2. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

3. Before hunting or fishing, all participants must display their User Information Card in plain view on the dashboard of their vehicle so that the Permit Number is readable.

4. Failure to display the User Information Card will result in the loss of the participant's annual refuge Public Use Permit.

5. We prohibit hunting or entry into areas designated as “CLOSED” (see refuge brochure map).

6. We prohibit possession of alcoholic beverages (see §32.2(j)).

7. We prohibit use of plastic flagging tape.

8. You must park vehicles in such a manner as not to obstruct roads, gates, turn rows, or firelanes (see §27.31(h) of this chapter).

9. Valid permit holders may take the following furbearers in season incidental to other refuge hunts with legal weapons used for that hunt: raccoon, opossum, coyote, beaver, bobcat, and nutria.

10. You may possess or use only approved nontoxic shot (see §32.2(k)) while in the field.

11. You may take migratory birds with shotguns shooting only approved nontoxic shot.

12. Hunters must remove all decoys, blind material (see §27.93 of this chapter), and harvested waterfowl from the area no later than 1 p.m. each day.

13. We allow goose, duck, merganser, and coot hunting from ½ hour before legal sunrise until 12 p.m. (noon). We allow entry into the refuge at 4 a.m.

14. There is no early teal season.

15. Beginning the day before duck season opens and ending the last day of duck season, we close refuge waters to all public use from 1 p.m. until 4 a.m.

B. Upland Game Hunting. We allow hunting of squirrel, rabbit, and raccoon on designated areas of the refuge in accordance with State regulations subject to the following conditions:

1. Conditions A2 through A10 apply.

2. We allow shotguns with only approved nontoxic shot (see §32.2(k)) and .22 and .17 caliber rimfire rifles for taking small game.

3. We allow squirrel and rabbit hunting with dogs in February.

4. During the rabbit hunts, any person hunting or accompanying another person hunting must wear at least 500 square inches (3,250 cm²) of unbroken, fluorescent-orange material visible above the waistline as an outer garment.

5. Beginning the day before duck season opens and ending the last day of duck season, we close refuge waters to all public use from 1 p.m. until 4 a.m.

6. We prohibit horses and mules.

7. Beginning the day before waterfowl season, we restrict hunting to the waterfowl hunting area (see refuge brochure map).

C. Big Game Hunting. We allow archery hunting of white-tailed deer on designated areas of the refuge in accordance with State regulations subject to the following conditions:

1. Conditions A2 through A10, A16, and B7 apply.

2. We allow archery hunting October 1 through January 31.

3. State bag limits apply.

4. We prohibit organized drives for deer.

5. Hunting or shooting within or adjacent to open fields or tree plantations less than 5 feet (1.5 m) in height must be from a stand a minimum of 10 feet (3 m) above the ground.

6. We prohibit hunting or shooting into a 100-foot (30-m) zone along either side of pipelines, power line rights-of-way, designated roads, trails, or around parking lots (see refuge brochure map). We consider it hunting if you occupy a stand or blind or have an arrow nocked in a bow.

7. We designate deer check station dates, locations, and requirements in the refuge brochure.

8. We allow hunters to possess and hunt from only one stand or blind. Complex Headquarters will use a specific method to identify stands and blinds. We prohibit the use of climbing spikes or hunting from a tree into which hunters have screwed or driven metal objects (see §32.2(i)). A hunter may place a deer stand or blind 48 hours prior to a hunt and must remove it within 48 hours after each designated hunt.

D. Sport Fishing. We allow fishing on designated areas of the refuge in accordance with State regulations subject to the following conditions: 1. We allow fishing in all refuge waters throughout the year, except in the waterfowl sanctuary, which we close from the first day of duck season through March 15 (see refuge brochure map).

2. Beginning the day before duck season opens and ending March 1, we close refuge waters to all public use from 1 p.m. until 4 a.m.

3. We prohibit trot lines, limb lines, jugs, seines, and traps.

4. We allow frogging during the State bullfrog season.

5. With the exception for frogging during the State season, we limit refuge ingress and egress for fishing to the period from 4 a.m. to 1½ hours after legal sunset.

Morgan Brake National Wildlife Refuge

A. Migratory Game Bird Hunting. We allow hunting of goose, duck, merganser, and coot on the refuge in accordance with State regulations subject to the following conditions:

1. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

2. Before hunting or fishing, all participants must display their User Information Card in plain view on the dashboard of their vehicle so that the Permit Number is readable.

3. Failure to display the User Information Card will result in the loss of the participant's annual refuge Public Use Permit.

4. We prohibit hunting or entry into areas designated as “CLOSED” (see refuge brochure map).

5. We prohibit possession of alcoholic beverages (see §32.2(j)).

6. We prohibit use of plastic flagging tape.

7. You must park vehicles in such a manner as not to obstruct roads, gates, turn rows, or firelanes (see §27.31(h) of this chapter).

8. We are open for hunting during the State season except during the muzzleloader deer hunt.

9. Valid permit holders may take the following furbearers in season incidental to other refuge hunts with legal weapons used for that hunt: raccoon, opossum, coyote, beaver, bobcat, and nutria.

10. We allow ATVs only on designated trails (see §27.31 of this chapter) (see refuge brochure map) from September 15 through February 28.

11. You may possess or use only approved nontoxic shot (see §32.2(k)) while in the field.

12. You may take migratory birds with shotguns shooting only approved nontoxic shot.

13. Hunters must remove all decoys, blind material (see §27.93 of this chapter), and harvested waterfowl from the area no later than 1 p.m. each day.

14. We allow goose, duck, merganser, and coot hunting from ½ hour before legal sunrise until 12 p.m. (noon). We allow entry into the refuge at 4 a.m.

15. There is no early teal season.

B. Upland Game Hunting. We allow hunting of squirrel, rabbit, quail, and raccoon on designated areas of the refuge in accordance with State regulations subject to the following conditions:

1. Conditions A1 through A11 apply.

2. We allow shotguns with only approved nontoxic shot (see §32.2(k)), and .22 and .17 caliber rimfire rifles for taking small game.

3. We allow squirrel, rabbit and quail hunting with dogs in February.

4. During the rabbit and quail hunts, any person hunting or accompanying another person hunting must wear at least 500 square inches (3,250 cm²) of unbroken, fluorescent-orange material visible above the waistline as an outer garment.

5. Beginning the first day after the deer muzzleloader hunt, we restrict hunting through the remainder of the season(s) to the designated waterfowl hunting area (see refuge brochure map).

6. With exception for raccoon hunting, we limit refuge ingress and egress to the period of 4 a.m. to 1½ hours after legal sunset.

7. We prohibit horses and mules.

C. Big Game Hunting. We allow hunting of white-tailed deer on designated areas of the refuge in accordance with State regulations subject to the following conditions: 1. Conditions A1 through A7, A9 through A11, and B5 through B7 apply.

2. During muzzleloader deer hunts all participants must wear at least 500 square inches (3,250 cm²) of unbroken, fluorescent-orange material visible above the waistline as an outer garment while hunting and en route to and from hunting areas.

3. We prohibit organized drives for deer.

4. Hunting or shooting within or adjacent to open fields or tree plantations less than 5 feet (1.5 m) in height must be from a stand a minimum of 10 feet (3 m) above the ground.

5. We prohibit hunting or shooting into a 100-foot (30-m) zone along either side of pipelines, power line rights-of-way, designated roads, trails, or around parking lots (see refuge brochure map). We consider it hunting if you occupy a stand or blind or have an arrow nocked in a bow.

6. We designate deer check station dates, locations, and requirements in the refuge brochure.

7. We allow hunters to possess and hunt from only one stand or blind. Complex Headquarters will use a specific method to identify stands and blinds. We prohibit the use of climbing spikes or hunting from a tree into which hunters have screwed or driven metal objects. Hunters may place a deer stand or blind 48 hours prior to a hunt and must remove it within 48 hours after each designated hunt. Hunters may place turkey blinds the day of the hunt and remove them after each day's hunt.

8. During designated muzzleloader hunts, we allow archery equipment and muzzleloaders loaded with a single ball.

9. Hunts and hunt dates are available at the refuge headquarters in July, and we post them in the refuge brochure.

10. We prohibit all other public use on the refuge during all muzzleloader deer hunts.

D. Sport Fishing. We allow fishing on designated areas of the refuge in accordance with State regulations subject to the following conditions:

1. We close all refuge waters during the muzzleloader deer hunt.

2. From November 16 to February 28 we allow fishing in refuge waters north of Providence Road.

3. We open all other refuge waters March 1 through November 15.

4. We prohibit trot lines, limb lines, jugs, seines, and traps.

5. We allow frogging during the State bullfrog season.

6. With the exception for frogging during the State season, we limit refuge ingress and egress for fishing to the period of 4 a.m. to 1½ hours after legal sunset.

7. Conditions A2 through A10 apply.

Panther Swamp National Wildlife Refuge

A. Migratory Game Bird Hunting. We allow hunting of goose, duck, merganser, and coot in accordance with State regulations subject to the following regulations:

1. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

2. Before hunting or fishing, all participants must display their User Information Card in plain view on the dashboard of their vehicle so that the Permit Number is readable.

3. Failure to display the User Information Card will result in the loss of the participant's annual refuge Public Use Permit.

4. We prohibit hunting or entry into areas designated as “CLOSED” (see refuge brochure map).

5. We prohibit possession of alcoholic beverages (see §32.2(j)).

6. We prohibit use of plastic flagging tape.

7. You must park vehicles in such a manner as not to obstruct roads, gates, turn rows, or firelanes (see §27.31(h) of this chapter).

8. We are open for hunting during the State season except during the limited draw hunts.

9. Valid permit holders may take the following furbearers in season incidental to other refuge hunts with legal weapons used for that hunt: raccoon, opossum, coyote, beaver, bobcat, and nutria.

10. We allow ATVs on designated trails (see §27.31 of this chapter) (see refuge brochure map) from September 15 through February 28.

11. You may possess or use only approved nontoxic shot (see §32.2(k)) while in the field.

12. You may take migratory birds with shotguns shooting only approved nontoxic shot.

13. Hunters must remove all decoys, blind material (see §27.93 of this chapter), and harvested waterfowl from the area no later than 1 p.m. each day.

14. We allow goose, duck, merganser, and coot hunting from ½ hour before legal sunrise until 12 p.m. (noon). We allow entry into the refuge at 4 a.m.

15. There is no early teal season.

16. We allow hunting of snow geese during the Light Goose Conservation order seasons by Special Use Permit.

17. Waterfowl hunting in Unit 1 will be on Monday, Tuesday, and Wednesday. Waterfowl hunting in Unit 2 will be Friday, Saturday, and Sunday (see Refuge Brochure for details).

18. We reserve the last weekend of December for youth waterfowl hunting. One adult hunter age 21, who we also allow to hunt, must accompany each youth hunter age 15 and under.

B. Upland Game Hunting. We allow hunting of squirrel, rabbit, quail, and raccoon on designated areas of the refuge in accordance with State regulations subject to the following conditions:

1. We allow hunting during the open State season except during limited draw hunts.

2. Conditions A1 through A12 apply.

3. We allow shotguns with only approved nontoxic shot (see §32.2(k)), and .22 and .17 caliber rimfire rifles for taking small game.

4. We allow squirrel, rabbit, and quail hunting with dogs in February.

5. During the rabbit and quail hunts, any person hunting or accompanying another person hunting must wear at least 500 square inches (3,250 cm²) of unbroken, fluorescent-orange material visible above the waistline as an outer garment.

6. Beginning the first day after the last limited draw deer hunt until March 1, we restrict all entry into the lower twist area.

7. With exception for raccoon hunting, we limit refuge ingress and egress to the period of 4 a.m. to 1½ hours after legal sunset.

8. We prohibit horses and mules.

C. Big Game Hunting. We allow hunting of white-tailed deer and turkey on designated areas of the refuge in accordance with State regulations subject to the following conditions:

1. Conditions A1 through A7, A9 through A12, and B6 and B8 apply.

2. We allow shotguns shooting only approved nontoxic shot (see §32.2(k)) and archery equipment for turkey hunting.

3. You must immediately tag all deer harvested prior to moving it during limited hunts; we provide the tags.

4. During all gun and muzzleloader deer hunts all participants must wear at least 500 square inches (3,250 cm²) of unbroken, fluorescent-orange material visible above the waistline as an outer garment while hunting and en route to and from hunting areas.

5. We prohibit organized drives for deer.

6. Hunting or shooting within or adjacent to open fields or tree plantations less than 5 feet (1.5 m) in height must be from a stand a minimum of 10 feet (3 m) above the ground.

7. We prohibit hunting or shooting into a 100-foot (30-m) zone along either side of pipelines, power line rights-of-way, designated roads, trails, or around parking lots (see refuge brochure map). We consider it hunting if you occupy a stand or blind or have an arrow nocked in a bow.

8. We designate deer check station dates, locations, and requirements in the refuge brochure.

9. We allow hunters to possess and hunt from only one stand or blind. Complex Headquarters will use a specific method to identify stands and blinds. We prohibit the use of climbing spikes or hunting from a tree into which hunters have screwed or driven metal objects. Hunters may place a deer stand or blind 48 hours prior to a hunt and must remove it within 48 hours after each designated hunt. Hunters may place turkey blinds the day of the hunt and remove them after each day's hunt.

10. During designated muzzleloader hunts, we allow archery equipment and muzzleloaders loaded with a single ball.

11. The limited draw hunts require a Limited Hunt Permit assigned by random computer drawing. At the end of the hunt you must return the permit with information concerning your hunt. If you fail to return this permit, you will not be eligible for any limited hunts the next year. Contact refuge headquarters for specific requirements, hunts, and application dates.

12. Hunts and hunt dates are available at the refuge headquarters in July, and we post them in the refuge brochure.

13. We prohibit all other public use on the refuge during all limited draw hunts.

D. Sport Fishing. We allow fishing on designated areas of the refuge in accordance with State regulations subject to the following conditions:

1. We close all refuge waters during all limited draw hunts.

2. We open waters between the East and West levee, the Landside Ditch, and the portion of Panther Creek adjacent to the West Levee year-round except during limited draw hunts.

3. We open all other refuge waters March 1 through November 15.

4. We prohibit trot lines, limb lines, jugs, seines, and traps.

5. We allow frogging during the State bullfrog season.

6. With the exception for frogging during the State season, refuge ingress and egress for fishing is limited to the period of 4 a.m. to 1½ hours after legal sunset.

7. Conditions A1 through A10 apply.

Yazoo National Wildlife Refuge

A. Migratory Game Bird Hunting. We allow hunting of duck, goose, merganser, coot, and dove on the refuge in accordance with State regulations subject to the following conditions:

1. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

2. Before hunting or fishing, all participants must display their User Information Card in plain view on the dashboard of their vehicle so that the Permit Number is readable.

3. Failure to display the User Information Card will result in the loss of the participant's annual refuge Public Use Permit.

4. We prohibit hunting or entry into areas designated as “CLOSED” (see refuge brochure map).

5. We prohibit possession of alcoholic beverages (see §32.2(j)).

6. We prohibit use of plastic flagging tape.

7. You must park vehicles in such a manner as not to obstruct roads, gates, turn rows, or firelanes (see §27.31(h) of this chapter).

8. We are open for hunting during the State season except during the muzzleloader deer hunt.

9. Valid permit holders may take the following furbearers in season incidental to other refuge hunts with legal weapons used for that hunt: raccoon, opossum, coyote, beaver, bobcat, and nutria.

10. You may possess only approved nontoxic shot (see §32.2(k)) while in the field.

11. You may take migratory birds with shotguns shooting only approved nontoxic shot.

12. Hunters must remove all decoys, blind material (see §27.93 of this chapter), and harvested waterfowl from the area no later than 1 p.m. each day.

13 We allow goose, duck, merganser, and coot hunting from ½ hour before legal sunrise until 12 p.m. (noon). We allow entry into the refuge at 4 a.m.

14. There is no early teal season.

15. We allow hunting of snow geese during the Light Goose Conservation Order seasons by Special Use Permit.

B. Upland Game Hunting. We allow hunting of squirrel, rabbit, quail, and raccoon on designated areas of the refuge in accordance with State regulations subject to the following conditions:

1. We allow hunting during the open State season except during limited draw hunts.

2. Conditions A1 through A9 and A11 apply.

3. We allow shotguns with only approved nontoxic shot (see §32.2(k)), and .22 and .17 caliber rimfire rifles for taking small game.

4. We allow rabbit and quail hunting with dogs in February.

5. During the rabbit and quail hunts, any person hunting or accompanying another person hunting must wear at least 500 square inches (3,250 cm²) of unbroken, fluorescent-orange material visible above the waistline as an outer garment.

6. With exception for raccoon hunting, refuge ingress and egress is limited to the period of 4 a.m. to 1½ hours after legal sunset.

7. We prohibit horses and mules.

8. We allow rabbit hunting on the Herron and Brown Tracts. Contact refuge headquarters for hunt dates, maps, and additional information.

C. Big Game Hunting. We allow hunting of white-tailed deer and turkey on designated areas of the refuge in accordance with State regulations subject to the following conditions:

1. Conditions A1 through A7, A9 through A12, B6 and B7 apply.

2. We allow shotguns shooting only approved nontoxic shot (see §32.2(k)) and archery equipment for turkey hunting.

3. You must immediately tag all deer harvested prior to moving it during limited hunts; we provide the tags.

4. During all gun and muzzleloader deer hunts all participants must wear at least 500 square inches (3,250 cm²) of unbroken, fluorescent-orange material visible above the waistline as an outer garment while hunting and en route to and from hunting areas.

5. We prohibit organized drives for deer.

6. Hunting or shooting within or adjacent to open fields or tree plantations less than 5 feet (1.5 m) in height must be from a stand a minimum of 10 feet (3 m) above the ground.

7. We prohibit hunting or shooting into a 100-foot (30-m) zone along either side of pipelines, power line rights-of-way, designated roads, trails, or around parking lots (see refuge brochure map). We consider it hunting if you occupy a stand or blind or have an arrow nocked in a bow.

8. We designate deer check station dates, locations, and requirements in the refuge brochure.

9. We allow hunters to possess and hunt from only one stand or blind. Complex Headquarters will use a specific method to identify stands and blinds. We prohibit the use of climbing spikes or hunting from a tree into which hunters have screwed or driven metal objects. Hunters may place a deer stand or blind 48 hours prior to a hunt and must remove it within 48 hours after each designated hunt. Hunters may place turkey blinds the day of the hunt and remove them after each day's hunt.

10. During designated muzzleloader hunts, we allow archery equipment and muzzleloaders loaded with a single ball.

11. Hunts and hunt dates are available at the refuge headquarters in July, and we post them in the refuge brochure.

12. We prohibit all other public use on the refuge during all limited draw hunts.

13. We allow archery deer hunting on the Herron and Brown Tracts. Contact refuge headquarters for hunt dates, maps, and additional information.

D. Sport Fishing. [Reserved]

6. Amend §32.60 by revising paragraphs A.2., A.4., A.6., A.10., B., C.15., C.16., C.19., and D. of Waccamaw National Wildlife Refuge to read as follows:

§32.60 South Carolina.

Waccamaw National Wildlife Refuge

A. Migratory Game Bird Hunting. * * *

2. An adult at least age 21 must supervise all youth hunters age 15 and under. Youth hunters must have successfully completed a State-approved hunter education course.

4. We allow scouting Monday through Friday during the waterfowl season. Anyone scouting may not possess a firearm and must be off the refuge by 2 p.m.

6. We prohibit permanent blinds (see §27.93 of this chapter). Hunters must remove portable blinds and decoys at the end of each day's hunt.

10. We prohibit hunting on any unit for wildlife species not officially opened to hunting or entering any areas posted as “Closed” or “No Hunting Zones.”

B. Upland Game Hunting. We allow hunting of gray squirrel, raccoon, and opossum on designated areas of the refuge in accordance with State regulations subject to the following conditions:

1. Conditions A1, A2, A9, and A10 apply.

2. We allow hunting only on days designated annually by the refuge within the State season. We allow upland game hunting only on designated refuge areas within Refuge Unit 1.

3. We require nontoxic shot in shotguns. We allow .22-caliber rimfire rifles.

C. Big Game Hunting. * * *

15. We allow hunters to use flagging to mark the site of hunter entry from roads or trails and again at the stand site. We allow hunters to use clothes pins with reflective tape between entry and stand sites to mark the route to the stand. Hunters must label all such markers with their full name and remove them at the end of the hunt.

16. We require hunters to wear an outer garment visible above the waist that contains a minimum of 500 square inches (3,250 cm²) of solid, fluorescent-orange material at all times during big game hunts except for wild turkey.

19. We limit turkey hunts to annual quota hunts. We will select hunters by a random drawing. The selected hunters must possess signed Refuge Turkey Hunt Permits at all times during the hunt.

D. Sport Fishing. We allow fishing in accordance with State regulations.

7. Amend §32.61 by adding Lake Andes National Wildlife Refuge in alphabetical order to read as follows:

§32.61 South Dakota.

Lake Andes National Wildlife Refuge

A. Migratory Game Bird Hunting. We allow migratory game bird hunting on designated areas of the refuge in accordance with State regulations.

B. Upland Game Hunting. We allow upland game hunting on designated areas of the refuge in accordance with State regulations.

C. Big Game Hunting. We allow big game hunting on designated areas of the refuge in accordance with State regulations.

D. Sport Fishing. [Reserved]

8. Amend §32.67 by:

a. Adding paragraph A. of Nisqually National Wildlife Refuge; and

b. Adding Turnbull National Wildlife Refuge in alphabetical order to read as follows:

§32.67 Washington.

Nisqually National Wildlife Refuge

A. Migratory Game Bird Hunting. We allow hunting of goose, duck, and coot on designated areas of the refuge in accordance with State regulations subject to the following conditions:

1. We allow hunters to possess and carry no more than 25 approved nontoxic shells while hunting in the field (see §32.2(k)).

2. Hunters may access the hunt areas by boat only. The maximum speed limit is 5 miles per hour for boats in all refuge waters.

Turnbull National Wildlife Refuge

A. Migratory Game Bird Hunting. We allow hunting of duck, goose, and coot within 50 yards (45 m) of hunting sites designated by the refuge manager on the north side of Upper Turnbull Slough in accordance with State regulations subject to the following conditions:

1. We only allow waterfowl (duck, goose, coot) hunting during the State's Youth Migratory Bird Hunt.

2. We prohibit the use of motorized boats.

3. We prohibit the construction or use of permanent blinds, pit blinds, stands, or scaffolds.

4. We only allow authorized vehicles on designated routes of travel and require hunters to park in designated parking area (see §27.31(h) of this chapter). We prohibit ATVs and ORVs.

5. Hunters may possess and carry no more than 25 nontoxic shotshells per hunter per day while in the field (see §32.2(k)).

6. We prohibit shooting or discharging any firearm from, across, or along a public highway, designated route of travel, road, road shoulder, road embankment, or designated parking area.

7. We allow hunter access from 2 hours before legal sunrise until 1 hour after legal sunset.

8. Hunters must possess a nontransferable refuge special access permit that names hunters, their hunt partners, and accompanying adult.

B. Upland Game Hunting. [Reserved]

C. Big Game Hunting. We allow hunting of elk on designated areas of the refuge in accordance with State regulations subject to the following conditions:

1. We conduct the refuge hunt by State permit only. We require hunters to possess and carry current Washington State elk licenses, valid for the refuge hunt unit, and a refuge special access permit.

2. We allow only authorized vehicles on designated routes of travel and require hunters to park in designated parking areas. We prohibit ATVs and ORVs.

3. We allow access from 2 hours before legal sunrise until 5 hours after legal sunset. Hunters needing additional time for retrieval must notify refuge staff or a State fish and wildlife officer.

4. We prohibit possession of a bow with the arrow nocked within any safety zone or closed area.

5. Safety zones of 500 feet (150 m) are in effect around existing structures. We prohibit shooting from or into any safety zone or Closed Area.

6. One person may assist hunters only during elk retrieval. We require this person to remain with the hunter at all times during retrieval. We require all hunters/helpers to possess a nontransferable refuge special access permit.

7. Refuge staff or a State Fish and Wildlife Officer must accompany hunters during retrieval of a wounded elk that moves outside the hunt unit in Closed Areas.

8. Hunters must use nontoxic ammunition or remove or bury the visceral remains of harvested animals.

D. Sport Fishing. [Reserved]

Dated: December 9, 2009
Thomas L. Stickland
Assistant Secretary for Fish and Wildlife and Parks

[FR Doc. E9-30424 Filed 12-28-09; 8:45 am]

BILLING CODE 4310-55-S